DEPARTMENT OF TRANSPORTATION

Federal Highway Administration

Environmental Impact Statement; Sherburne County, MN

AGENCY: Federal Highway Administration (FHWA), DOT.

ACTION: Notice of intent.

SUMMARY: The FHWA is issuing this notice to advise the public that a Tier I environmental impact statement (EIS) will be prepared for proposed highway improvements to Trunk Highway (TH) 10 from 1.0 mile east of Big Lake to 0.75 mile west of Big Lake, in Sherburne County, Minnesota. The Tier I EIS will include the analysis needed for a location decision to facilitate preservation of right-of-way.

FOR FURTHER INFORMATION CONTACT: Cheryl Martin, Federal Highway Administration, Galtier Plaza, 380 Jackson Street, Suite 500, St. Paul, Minnesota 55101, Telephone (651) 291-6120; or Claudia Dumont, Project Manager, Minnesota Department of Transportation—District 3B, 3725 12th Street North, ST. Cloud, Minnesota 56303, Telephone (320) 654-5134.

SUPPLEMENTARY INFORMATION: The FHWA, in cooperation with the Minnesota Department of Transportation, will prepare a Tier I EIS on a proposal to improve TH 10 from 1.0 mile east of Big Lake to 0.75 mile west of Big Lake, in Sherburne County, Minnesota. The proposed action is being considered to preserve right-of-way for the proposed highway improvement. The proposed action is being considered to address future transportation demand, safety problems, access management and interregional corridor status.

The Tier I EIS will evaluate the social, economic, transportation and environmental impacts of alternatives, including: (1) No-Build, (2) Improvements to the existing TH 10 corridor, and (3) One or more new alignments south of existing TH 10.

The Tier II EIS will be prepared in approximately ten to fifteen years. At that time, design alternatives for the preferred alignment will be considered and environmental impacts and mitigation will be studied in greater detail. The construction of the preferred alternative is planned for implementation in approximately fifteen years.

It is anticipated that the “TH 10 Scoping Document/Draft Scoping Decision Document” will be published in the Fall of 2003. A press release will be published to inform the public of the document's availability. Copies of the scoping document will be distributed to agencies, interested persons and libraries for review to aid in identifying issues and analyses to be contained in the Tier I EIS. A thirty-day comment period for review of the document will be provided to afford an opportunity for all interested persons, agencies and groups to comment on the proposed action. A public scooping meeting will also be held during the comment period. Public notice will be given for the time and place of the meeting. A Tier I Draft EIS will be prepared based on the outcome of the scoping process. Coordination has been initiated and will continue with appropriate Federal, State, and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: July 10, 2003.
Stanley M. Graczyk,
Project Development, Team Leader, Federal Highway Administration, St. Paul, Minnesota.

[FR Doc. 03-19102 Filed 7-25-03; 8:45 am]

BILLING CODE 4910-22-M